NATIONAL SCIENCE FOUNDATION

Proposal Review Panel for Computing and Communication Foundations Notice of Meeting

In accordance with the Federal Advisory Committee Act (Pub. L. 92-463, as amended), the National Science Foundation announces the following meeting:

Name: Proposal Panel Review for Science and Technology Centers—Integrative Partnerships (#1192) Site Visit

Date/Time: June 1, 2015 6:30 p.m.-8:30 p.m.; June 2, 2015 8:00 a.m.-8:00 p.m.; June 3, 2015 8:30 a.m.-3:00 p.m.

Place: Massachusetts Institute of Technology (MIT), Cambridge, MA 02139.

Type Of Meeting: Partial Closed.

Contact Person: John Cozzens, National Science Foundation, 4201 Wilson Boulevard, Room 1115, Arlington, VA 22230. Telephone: (703) 292-8910.

Purpose Of Meeting: To assess the progress of the STC Award: 1231216 “A Center for Brains, Minds and Machines: the Science and the Technology of Intelligence”, and to provide advise and recommendations concerning further NSF support for the Center.

Agenda: MIT Site Visit

Monday, June 1, 2015

6:30 p.m. to 8:30 p.m.: Closed

Site Team and NSF Staff meets to discuss Site Visit materials, review process and charge

Tuesday, June 2, 2015

8:00 a.m. to 1:00 p.m.: Open

Presentations by Awardee Institution, faculty staff and students, to Site Team and NSF Staff; Discussions, question and answer sessions

1:00 p.m.-8:00 p.m.: Closed

Draft report on education and research activities

Wednesday, June 3, 2015

8:30 a.m.-Noon: Open

Response presentations by Site Team and NSF Staff Awardee Institution faculty staff; Discussions, question and answer sessions

Noon to 3:00 p.m.: Closed

Complete written site visit report with preliminary recommendations.

Reason For Closing: The proposals being reviewed include information of a proprietary or confidential nature, including technical information; financial data, such as salaries; and personal information concerning individuals associated with the proposals. These matters are exempt under 5 U.S.C. 552b(c), (4) and (6) of the Government in the Sunshine Act.

Dated: May 1, 2015.
Suzanne Plimpton,
Acting, Committee Management Officer.

[FR Doc. 2015-10992 Filed 5-6-15; 8:45 am]

BILLING CODE 7555-01-P